POSTAL REGULATORY COMMISSION

39 CFR Part 3050

[Docket No. RM2011-9; Order No. 713]

Periodic Reporting

AGENCY: Postal Regulatory Commission.

ACTION: Notice of proposed rulemaking; availability of rulemaking petition.

SUMMARY: The Commission is establishing a docket to consider a proposed change in certain analytical methods used in periodic reporting. This action responds to a Postal Service rulemaking petition. Establishing this docket will allow the Commission to consider the Postal Service's proposal and comments from the public.

DATES: Comments are due: May 9, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On April 6, 2011, the Postal Service filed a petition pursuant to 39 CFR 3050.11 asking the Commission to initiate an informal rulemaking proceeding to consider changes in the analytical methods approved for use in periodic reporting.¹

¹ Petition of the United States Postal Service Requesting Initiation of a Proceeding to Consider Proposed Changes in Analytic Principles (Proposal One), April 6, 2011 (Petition).

Proposal One ² would propose to modify the attribution of costs for Fee Group E Post Office Boxes so that the costs are considered institutional rather than as part of the attributable costs of Post Office Box Service. The Postal Service asserts that its aim is to achieve more equitable financing of Fee Group E Post Office Boxes. It notes that the proposal has no impact on the methodology for the calculation of costs for Fee Group E Post Office Boxes. Id. at 1.

² This is the first proposal filed after the FY 2010 Annual Compliance Report. It is the Postal Service's current practice to restart its proposal numbering sequence.

The Postal Service states that under this proposal, Group E costs would be paid for by all mailers, not just post office box holders. It maintains that the Group E costs methodology remains consistent with Docket No. ACR2010 and Docket No. MC2010-20. Id. Attachment at 1.

The Attachment to the Postal Service's Petition explains its proposal in more detail, including its background, objective, rationale, and estimated impact. The Petition, including the attachments, is available for review on the Commission's Web site, http://www.prc.gov.

Pursuant to 39 U.S.C. 505, James F. Callow is designated as Public Representative to represent the interests of the general public in this proceeding. Comments are due no later than May 9, 2011.

It is ordered:

1. The Petition of the United States Postal Service Requesting Initiation of a Proceeding to Consider Proposed Changes in Analytic Principles (Proposal One), filed April 6, 2011, is granted.

2. The Commission establishes Docket No. RM2011-9 to consider the matters raised by the Postal Service's Petition.

3. Interested persons may submit comments on Proposal One no later than May 9, 2011.

4. The Commission will determine the need for reply comments after review of the initial comments.

5. James F. Callow is appointed to serve as the Public Representative to represent the interests of the general public in this proceeding.

6. The Secretary shall arrange for publication of this Notice in the Federal Register.

By the Commission.
Shoshana M. Grove,
Secretary.

[FR Doc. 2011-9058 Filed 4-13-11; 8:45 am]

BILLING CODE 7710-FW-P